DEPARTMENT OF TRANSPORTATION

Coast Guard

33 CFR Part 100

[CGD07-01-119]

RIN 2115-AE46

Special Local Regulations; Charleston Christmas Boat Parade and Fireworks Display, Charleston Harbor, Charleston, SC

AGENCY: Coast Guard, DOT.

ACTION: Temporary final rule.

SUMMARY: Temporary special local regulations are being established for the Charleston Christmas Boat Parade and Fireworks Display in Charleston Harbor, Charleston SC. These regulations restrict the movement of non-participating vessels in the regulated areas established around the parade route and fireworks barge in Charleston Harbor. These regulations are needed to provide for the safety of life on navigable waters during the event and to reduce the impact on commercial traffic in Charleston Harbor.

DATES: This rule is effective from 5 p.m. to 8 p.m. on December 1, 2001.

ADDRESSES: Documents indicated in this preamble as being available in the docket, are part of [CGD07-01-119] and are available for inspection or copying at Coast Guard Group Charleston, 196 Tradd St, Charleston SC 29401 between 7:30 a.m. and 4 p.m., Monday through Friday, except Federal holidays.

FOR FURTHER INFORMATION CONTACT: ENS William C. Walsh, Coast Guard Group Charleston at 843 724 7600 x203.

SUPPLEMENTARY INFORMATION:

Regulatory Information

We did not publish a notice of proposed rulemaking (NPRM) for this regulation. Under 5 U.S.C. 553(b)(B), the Coast Guard finds that good cause exists for not publishing an NPRM. Publishing an NPRM would be contrary to public safety interests since immediate action is needed to minimize potential danger to the public. There will be numerous spectator and participant vessels in close proximity to each other. Moreover, publishing an NPRM is unnecessary since this regulation will only be in effect for 3 hours.

Background and Purpose

Each year a Christmas boat parade is held in Charleston Harbor, South Carolina. We previously issued a permanent special local regulation for this event, at 33 CFR 100.721. Under that regulation the parade was permitted for a specific series of dates. Those dates only covered the years 1996 through 2000. The event remains the same this year with the exception of the addition of a fireworks display. These temporary regulations will help control vessel traffic for the boat parade and fireworks display.

Discussion of Rule

The special local regulations for this event prohibit non-participant vessels from entering the regulated areas along the parade route and near the fireworks barge in Folly Island Channel. During the Christmas Boat Parade, non-participant vessels are required to stay 500 yards away from the lead parade vessel and 100 yards away from the last parade vessel. Non-participant vessels are also required to keep 50 yards away from the outermost parade vessel as the flotilla proceeds along the parade route.

The parade route begins in the Middle Ground, North of Charleston South Channel. The parade will proceed northeasterly along the west edge of Commercial Anchorage A, entering Rebellion Reach in the vicinity of Charleston Harbor Channel Lighted Buoy 2 (Light List Number 2520), thence proceeding northwesterly up Shutes Folly and Horse Reach to approximately two-tenths of a nautical mile north of USS Yorktown at position 32°47.7′N, 079°47.6′W, thence westerly across Hog Island Reach near Charleston Harbor North Channel Lighted Buoy 11 (Light List Number 2529) at approximate position 32°47.6′N, 079°55.1′W, entering Town Creek Lower reach near Town Creek Channel Lighted Buoy 2 (Light List Number 2715) at approximate position 32°47.7′N, 079°55.5′W thence south to 32°45.7′N, 079°55.3′W (approximately one half nautical mile southeast of Battery Point), thence northwesterly up the Ashley River, and continuing to the finishing point at City Marina at approximate position 32°46.6′N, 079°57.2′W.

Vessels are also prohibited from entering the regulated area encompassing the fireworks barge in Folly Island Channel. The regulated area encompasses a 300 yard radius around a fireworks barge in approximate position 32°46.192N, 079°54.327W. All coordinates referenced use datum: NAD 1983. This rule is effective from 5 p.m. to 8 p.m. on December 1, 2001.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979) because this rule is only in effect for 3 hours.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

This rule may affect the following entities, some of which may be small entities: the owners or operators of vessels intending to transit or anchor in a portion of Charleston Harbor from 5 p.m. to 8 p.m. on December 1, 2001. The Coast Guard certifies under 5 U.S.C. 605(b) that this rule will not have a significant economic impact on a substantial number of small entities because this regulation is only in effect for 3 hours.

Assistance for Small Entities

Under section 213(a) of the Small Business Regulatory Enforcement Fairness Act of 1996 (Pubic Law 104-121), we offer to assist small entities in understanding the rule so that they may better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandate Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. This rule will not result in such an expenditure.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard has considered the environmental impact of this action and has determined pursuant to Figure 2-1, paragraph 34(h) of Commandant Instruction M16475.1D, that this action is categorically excluded from further environmental documentation.

List of Subjects in 33 CFR Part 100

Marine safety, Navigation (water), Reporting and record keeping requirements, Waterways.

For the reasons discussed in the preamble, the Coast guard amends 33 CFR Part 100 as follows:

PART 100—[SAFETY OF LIFE ON NAVIGABLE WATERS]

1. The authority citation for part 100 continues to read as follows:

Authority: 33 U.S.C. 1233 through 1236, 49 CFR 1.46, and 33 CFR 100.35.

2. Add § 100.35T-07-119 to read as follows:

§ 100.35T-07-119 Charleston Christmas Boat Parade and Fireworks Display, Charleston Harbor, Charleston SC.

(a) Regulated areas. (1) Charleston Christmas Boat Parade. A regulated area is established to include the waters 500 yards ahead of the lead parade vessel, 100 yards astern of the last parade vessel, and 50 yards to either side of all parade vessels along the parade route described in paragraph (b) of this section.

(2) Fireworks display. A regulated area is established for all waters in Folly Island Channel, Charleston Harbor, Charleston SC encompassing a 300 yard radius around a fireworks barge in approximate position 32°46.192N, 079°54.327W. All coordinates referenced use datum: NAD 1983.

(b) Parade route. The parade will organize in the Middle Ground, North of Charleston South Channel. The parade will proceed northeasterly along the west edge of Commercial Anchorage A, entering Rebellion Reach in the vicinity of Charleston Harbor Channel Lighted Buoy 2 (Light List Number 2520), thence proceeding northwesterly up Shutes Folly and Horse Reach to approximately two-tenths of a nautical mile north of USS Yorktown at position 32°47.7′N, 079°47.6′W, thence westerly across Hog Island Reach near Charleston Harbor North Channel Lighted Buoy 11 (Light List Number 2529) at approximate position 32°47.6′N, 079°55.1′W, entering Town Creek Lower reach near Town Creek Channel Lighted Buoy 2 (Light List Number 2715) at approximate position 32°47.7′N, 079°55.5′W thence south to 32°45.7′N, 079°55.3′W (approximately one half nautical mile southeast of Battery Point), thence northwesterly up the Ashley River, and continuing to the finishing point at City Marina at approximate position 32°46.6′N, 079° 57.2′W.

(c) Coast Guard Patrol Commander. The Coast Guard Patrol Commander is a commissioned, warrant, or petty officer of the Coast Guard who has been designated in writing by the Commander, Coast Guard Group Charleston, South Carolina.

(d) Special local regulations. Non-participating vessels are prohibited from entering the regulated areas unless authorized by the Coast Guard Patrol Commander. Spectator craft may remain in the designated spectator area to be established by the event sponsor, The Charleston Cultural Affairs Office.

(e) Dates: This section is effective from 5 p.m. to 8 p.m. on December 1, 2001.

Dated: October 18, 2001.
D.B. Peterman,
Captain, U.S. Coast Guard, Acting Commander, Seventh Coast Guard District.

[FR Doc. 01-26992 Filed 10-25-01; 8:45 am]

BILLING CODE 4910-15-U